DEPARTMENT OF HOUSING AND URBAN DEVELOPMENT

[Docket No. FR-5603-N-29]

Notice of Proposed Information Collection for Public Comment Emergency Comment Request; Office of Housing Assistance Contract Administration Oversight, Multifamily Housing Programs

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 1, 2012.

ADDRESSES: Interested persons are invited to submit comments regarding this proposal. Comments must be received within seven (7) days from the date of this Notice. Comments should refer to the proposal by name/or OMB approval number (2502-New) and should be sent to: HUD Desk Officer, Office of Management and Budget, New Executive Office Building, Washington, DC 20503; email: OIRA Submission@omb.epo.gov ; fax: 202-395-6974.

FOR FURTHER INFORMATION CONTACT: Kerry Hickman, Acting Director, Office of Housing Assistance and Contract Administration Oversight (OHACAO), Department of Housing and Urban Development, 451 7th Street SW., Washington, DC 20410, telephone (202) 402-3885 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Annual Customer Service Survey of Performance-Based Contract Administrators.

Description of Information Collection: Abstract: Performance-Based Contract Administrators (PBCAs) under contract with HUD operate in nine States, Puerto Rico and the Virgin Islands. PBCAs monitor project owners' compliance with their obligations and responsibilities under the Section 8 Program and administer Housing Assistance Payments (HAPs) to owners of properties that receive rental subsidies for low- and moderate-income eligible families. Property owners are obligated to rent a portion of their units to Section 8 eligible families; maintain decent, safe, and sanitary housing for residents; and comply with various regulations and reporting requirements. PBCAs receive a Basic Administrative Fee to administer HAP contracts within their geographic boundaries and may earn Annual Incentive Fees for customer service. The surveys of property owners and tenants that make up this data collection will be used to determine eligibility for incentive fees.

OMB Control Number: 2502-New.

Agency Form Numbers: Annual Customer Service Survey of Performance-Based

Contract Administrators.

Members of Affected Public: Section 8 Tenants, PBCAs, Property Owners.

Estimation of the total numbers of hours needed to prepare the information collection including number of respondents, frequency of responses, and hours of response:

The number of burden hours is 584.90. Then number of respondents is 2750, the number of responses is 2750, the frequency of response is on occasion, and the burden of hour per response for Tenants is 217 hours and the burden of hours per response for Property Owners is 75 hours.

Authority: The Paperwork Reduction Act of 1995, 44 U.S.C. Chapter 35, as amended.

Dated: April 17, 2012.
Colette Pollard,
Departmental Paperwork Reduction Act Officer, Office of the Chief Information Officer.

[FR Doc. 2012-9864 Filed 4-23-12; 8:45 am]

BILLING CODE 4210-67-P